FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 20, 2010.

A. Federal Reserve Bank of Dallas (W. Arthur Tribble, Vice President) 2200 North Pearl Street, Dallas, Texas 75201-2272:

1. Moelis Capital Partners Opportunity Fund I, LP, New York, New York, Moelis Capital Partners Opportunity Fund I-A, LP, New York, New York, Moelis Capital Partners Opportunity Fund, I, LLC, New York, New York, Moelis Capital Partners LLC, New York, New York, Moelis and Company Holdings LLC, New York,New York, Moelis and Company Manager LLC, New York, New York, and Ken Moelis, New York, New York, to acquire more than 10 percent of the shares of Opportunity Bancshares, Inc., Bettendorf, Iowa, and indirectly control Opportunity Bank, NA, Richardson,Texas.

Board of Governors of the Federal Reserve System.
Dated: April 2, 2010.
Robert deV. Frierson,
Deputy Secretary of the Board.

[FR Doc. 2010-7853 Filed 4-6-10; 8:45 am]

BILLING CODE 6210-01-S